DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221 (a) of the Act.

The purpose of each of the investigations is to determine whether the workers are eligible to apply for adjustment assistance under Title II, chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than December 2, 2002.

Interested persons are invited to submit written comments regarding the subject matter of the investigations to the Director, Division of Trade Adjustment Assistance, at the address shown below, not later than December 2, 2002.

The petitions filed in this case are available for inspection at the Office of the Director, Division of Trade Adjustment Assistance, Employment and Training Administration, U.S. Department of Labor, Room C-5311, 200 Constitution Avenue, NW., Washington, DC 20210.

Signed at Washington, DC, this 30th day of September, 2002.
Edward A. Tomchick,
Director, Division of Trade Adjustment Assistance.

Appendix
[Petitions instituted on 09/30/2002]
TA-W | Subject firm (petitioners) | Location | Date of petition | Product(s)
42,178 | Microtek Medical, Inc. (Comp) | Columbus, MS | 09/10/2002 | Microscope drapes, camera drapes.
42,179 | Kirkwood Industries (Comp) | Hebron, OH | 09/09/2002 | Commutators, electromechanical component.
42,180 | Hy Lift (UAW) | Muskegon, MI | 09/17/2002 | Valve Lifters.
42,181 | Georgia Pacific (Wrks) | Bowden, NC | 09/11/2002 | Hardwood lumber.
42,182 | American Tramway's (Wrks) | Watertown, NY | 09/10/2002 | Aerial tramways and chairlifts.
42,183 | Inabata (Wrks) | El Paso, TX | 09/17/2002 | Assembling.
42,184 | Graphic Sportswear (Wrks) | Austin, TX | 09/10/2002 | T-shirts, polo shirts, and sweatshirts.
42,185 | Juno (Wrks) | Blytheville, AR | 09/11/2002 | Plastic tool parts.
42,186 | AMF Reece, Inc. (Comp) | Mechanicsville, VA | 09/10/2002 | Sewing machines and parts.
42,187 | Faith Apparel, Inc. (Comp) | Richlands, VA | 09/09/2002 | Ladies sleepwear and lounge wear.
42,188 | Laird Technologies (Wrks) | Del Water Gap, PA | 09/12/2002 | Copper metal stampings, tool dye work.
42,189 | Baker Electrical Products (Comp) | Memphis, MI | 09/12/2002 | Coil windings.
42,190 | Pechiney Rolled Products (Comp) | Ravenswood, WV | 09/11/2002 | Aluminum flat rolled sheet plates.
42,191 | Tytex, Inc USA (Wrks) | Woonsocket, RI | 09/11/2002 | Hip protector plants, cotton briefs.
42,192 | Waukesha Electric Systems (Comp) | Milpitas, CA | 08/08/2002 | Large power transformers.
42,193 | Vulcan Chemicals (Comp) | Wichita, KS | 09/19/2002 | Chloroform.
42,194 | Jean Michael's, Inc. (UNITE) | Willingboro, NJ | 09/20/2002 | Women's skirts.
42,195 | 3M EdUSA (Wrks) | El Paso, TX | 06/11/2002 | Bandages, first aid kits, dressings.
42,196 | Hy-Tec Manufacturing (Wrks) | Ada, OK | 09/13/2002 | Alternator and starter parts.
42,197 | Georgia Pacific Corp. (PACE) | Baileyville, ME | 09/16/2002 | Wood construction panels.
42,198 | Tritex Sportswear, Inc. (Comp) | Altoona, PA | 09/09/2002 | Men's, women's and children's outerwear.
42,199 | Harting Manufacturing (Comp) | Elgin, IL | 09/19/2002 | Cable and related components assemblies.
42,200 | Multi Tool, Inc. (Wrks) | Saegertown, PA | 08/27/2002 | Plastic injection molds.
42,201 | International Rectifier (Wrks) | \Temecula, CA | 09/24/2002 | Wafer chips for semiconductors.
42,202 | Empire Blue Cross (Wrks) | Syracuse, NY | 09/09/2002 | Technical assistance service.
42,203 | Motorola (Wrks) | Austin, TX | 09/16/2002 | Semiconductor packaging.
42,204 | G.S. of West Virginia (Comp) | Ravenswood, WV | 09/13/2002 | Automotive wire harness.
42,205 | Sutherland Sheet Metal (Wrks) | Woonsocket, RI | 09/11/2002 | Custom fabrication and welding.
42,206 | Hoffco/Comet (Comp) | Rushville, IN | 09/16/2002 | Transmission assembly.
42,207 | Xerox Corp (UNITE) | Canandaigua, NY | 09/17/2002 | Printhead and ink tank.
42,208 | Engelhard Corp (Wrks) | Erie, PA | 09/18/2002 | Nickel and maleic products.
42,209 | Duro Industries, Inc. (Comp) | Fall River, MA | 09/16/2002 | Apparel dying, finishing, printing.

[FR Doc. 02-29623 Filed 11-20-02; 8:45 am]

BILLING CODE 4510-30-M